DEPARTMENT OF HEALTH AND HUMAN SERVICES

Agency for Toxic Substances and Disease Registry

[ATSDR-199]

Availability of Draft Document on Proposed Interim Oral Guidance Values for 2,3,5,6-Tetrachloroterephthalic Acid

AGENCY: Agency for Toxic Substances and Disease Registry (ATSDR), Department of Health and Human Services (HHS).

ACTION: Notice of availability.

SUMMARY: This notice announces the availability of a draft document on the proposed interim oral health guidance values for 2,3,5,6-tetrachloroterephthalic acid prepared by ATSDR for review and comment for a 30-day public comment period.

FOR FURTHER INFORMATION CONTACT: Dr. Selene Chou, Division of Toxicology, Agency for Toxic Substances and Disease Registry, Mailstop F32, 1600 Clifton Road, NE., Atlanta, Georgia 30333, telephone (770) 488-3357.

SUPPLEMENTARY INFORMATION: The Superfund Amendments and Reauthorization Act (SARA) (Pub. L. 99-499) amends the Comprehensive Environmental Response, Compensation, and Liability Act (CERCLA or Superfund) (42 U.S.C. 9601 et seq.) by establishing certain requirements for ATSDR and the U.S. Environmental Protection Agency (EPA) with regard to hazardous substances that are most commonly found at facilities on the CERCLA National Priorities List (NPL). Section 104(i)(4) of CERCLA (42 U.S.C. 9604(i)(4)), states that “The Administrator of the ATSDR shall provide consultations upon request on health issues relating to exposure to hazardous or toxic substances, on the basis of available information, to the Administrator of EPA, state officials and local officials. Such consultation to individuals may be provided by states under cooperative agreements established under the Act.” In response to a request of a state under cooperative agreement to provide guidance on 2,3,5,6-tetrachloroterephthalic acid (TPA), ATSDR has developed interim oral health guidance values for TPA. The information provided by ATSDR will enable the state to respond to a request it had received concerning groundwater contamination of TPA.

Availability

This notice announces the availability of the draft document on proposed interim oral health guidance values for 2,3,5,6-tetrachloroterephthalic acid (TPA). Although available key studies for TPA were considered during development of the draft document, this Federal Register notice seeks to solicit any additional studies, particularly unpublished data and ongoing studies, which will be evaluated for possible addition to the draft document. ATSDR remains committed to providing a public comment period as a means to best serve public health and our clients.

The draft document is available on the ATSDR Web site at http://www.atsdr.cdc.gov/publiccomment.html. The document will be available in a pdf file. You may request a hard copy by telephone at (770) 488-3357 or e-mail at cjc3@cdc.gov. ATSDR reserves the right to provide only one printed copy of the draft document, free of charge.

Written comments and other data submitted in response to this notice and the draft document should bear the docket control number ATSDR-199. Send one copy of all comments and three copies of all supporting documents to Dr. Selene Chou, ATSDR, Division of Toxicology, Mailstop F32, 1600 Clifton Road, NE., Atlanta, Georgia 30333 by the end of the comment period, July 23, 2004. Because all public comments to ATSDR on the proposed draft interim guidance values for TPA are available for public inspection after the document is finalized, no confidential business information or other confidential information should be submitted in response to this notice.

Dated: June 16, 2004.
Georgi Jones,
Director, Office of Policy, Planning, and Evaluation, National Center for Environmental Health/Agency for Toxic Substances and Disease Registry.

[FR Doc. 04-14173 Filed 6-22-04; 8:45 am]

BILLING CODE 4163-70-P